DEPARTMENT OF ENERGY

Federal Energy Regulatory Commission

[Project No. 12704-007]

Maine Tidal Power; Notice of Preliminary Permit Application Accepted For Filing and Soliciting Comments, Motions To Intervene, and Competing Applications

On December 2, 2013, Maine Tidal Power filed an application for a successive preliminary permit, pursuant to section 4(f) of the Federal Power Act (FPA), proposing to study the feasibility of the Half Moon Cove Tidal Power Project (Half Moon Cove Project) to be located in Cobscook and Passamaquoddy Bay, near the cities of Eastport and Perry, Washington County, Maine. The sole purpose of a preliminary permit, if issued, is to grant the permit holder priority to file a license application during the permit term. A preliminary permit does not authorize the permit holder to perform any land-disturbing activities or otherwise enter upon lands or waters owned by others without the owners' express permission.

The proposed project would consist of the following: (1) A new 1,200-foot-long tidal wall with a crest elevation of approximately 27 feet above mean sea level (msl); (2) a new 60-foot-wide, 20-foot-high filling and empting gate; (3) the 850-acre Half Moon Cove with a surface elevation of 13.0 feet above msl; (4) a new 60-foot-wide, 125-foot-long gated powerhouse with four turbine generating units with a total capacity of 21.5 megawatts; (5) a new 34.5 kilovolt, 7.1-mile-long transmission line extending from the project powerhouse to an existing substation owned by Bangor Hydroelectric Company located in the town of Pembroke, ME (the point of interconnection with the distribution grid); and (6) appurtenant facilities. The estimated annual generation of the Half Moon Cove Project would be 30,000 megawatt-hours.

Applicant Contact: Mr. Normand Laberge, Maine Tidal Power, 46 Place Cove Road, Trescott, Maine 04652; phone: (207) 733-5513.

FERC Contact: Tom Dean; phone: (202) 502-6041; or thomas.dean@ferc.gov.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-12704-007.

More information about this project, including a copy of the application, can be viewed or printed on the “eLibrary” link of Commission's Web site at http://www.ferc.gov/docs-filing/elibrary.asp. Enter the docket number (P-12704) in the docket number field to access the document. For assistance, contact FERC Online Support.

Dated: January 30, 2014.
Kimberly D. Bose,
Secretary.

[FR Doc. 2014-02483 Filed 2-5-14; 8:45 am]

BILLING CODE 6717-01-P